DEPARTMENT OF ENERGY

Federal Energy Regulatory Commission

Combined Notice of Filings #1

Take notice that the commission received the following accounting Request filings:

Docket Numbers: AC26-17-000.

Applicants: Alabama Power Company.

Description: Alabama Power Company submits Proposed Accounting Entries re Alabama Power Company's acquisition of Tenaska Alabama Partners, L.P., approved in docket no. EC25-27.

Filed Date: 12/22/25.

Accession Number: 20251222-5356.

Comment Date: 5 p.m. ET 1/12/26.

Take notice that the Commission received the following electric corporate filings:

Docket Numbers: EC26-42-000.

Applicants: American Electric Power Company, Inc., Ohio Power Company, AEP Generation Resources Inc.

Description: Joint Application for Authorization Under Section 203 of the Federal Power Act of American Electric Power Company, Inc., et al.

Filed Date: 12/18/25.

Accession Number: 20251218-5372.

Comment Date: 5 p.m. ET 1/8/26.

Take notice that the Commission received the following exempt wholesale generator filings:

Docket Numbers: EG26-116-000.

Applicants: CG Leon County LLC.

Description: CG Leon County LLC submits Notice of Self-Certification of Exempt Wholesale Generator Status.

Filed Date: 12/23/25.

Accession Number: 20251223-5310.

Comment Date: 5 p.m. ET 1/13/26.

Take notice that the Commission received the following electric rate filings:

Docket Numbers: ER12-1437-006.

Applicants: Eagle Point Power Generation LLC.

Description: Compliance filing: Compliance Filing Revising Tariff Record to be effective 5/24/2024.

Filed Date: 12/23/25.

Accession Number: 20251223-5262.

Comment Date: 5 p.m. ET 1/13/26.

Docket Numbers: ER22-2383-000.

Applicants: Black Hills Power, Inc.

Description: Refund Report to be effective N/A.

Filed Date: 12/23/25.

Accession Number: 20251223-5266.

Comment Date: 5 p.m. ET 1/13/26.

Docket Numbers: ER25-2852-003.

Applicants: Edgecom Energy USA, Inc.

Description: Tariff Amendment: Edgecom Energy USA, Inc. Market-Based Rate Tariff Filing to be effective 12/31/2025.

Filed Date: 12/23/25.

Accession Number: 20251223-5001.

Comment Date: 5 p.m. ET 1/13/26.

Docket Numbers: ER26-166-001.

Applicants: UGID Broad Mountain, LLC.

Description: Tariff Amendment: UGID Broad Mountain, LLC Response to Deficiency Letter to be effective 11/15/2025.

Filed Date: 12/23/25.

Accession Number: 20251223-5233.

Comment Date: 5 p.m. ET 1/13/26.

Docket Numbers: ER26-191-001.

Applicants: Public Service Company of Colorado.

Description: Tariff Amendment: 2025-12-23—PSCo Deficiency Response to be effective 12/20/2025.

Filed Date: 12/23/25.

Accession Number: 20251223-5191.

Comment Date: 5 p.m. ET 1/13/26.

Docket Numbers:ER26-297-001.

Applicants: Midcontinent Independent System Operator, Inc.

Description: Tariff Amendment: 2025-12-23_SA 4579 OTP-DISIS-2017-001 MPFCA Sub Orig to be effective 12/31/9998.

Filed Date: 12/23/25.

Accession Number: 20251223-5110.

Comment Date: 5 p.m. ET 1/13/26.

Docket Numbers: ER26-409-002.

Applicants: Wisconsin Power and Light Company.

Description: Tariff Amendment: Supplemental Filing.

Filed Date: 12/23/25.

Accession Number: 20251223-5141.

Comment Date: 5 p.m.. ET 1/13/26.

Docket Numbers: ER26-860-000.

Applicants: PJM Interconnection, L.L.C.

Description: § 205(d) Rate Filing: Amended DEA, SA No. 7601 among PJM, NEET Mid-Atlantic & NEET Virginia to be effective 11/21/2025.

Filed Date: 12/22/25.

Accession Number: 20251222-5319.

Comment Date: 5 p.m. ET 1/12/26.

Docket Numbers: ER26-861-000.

Applicants: PJM Interconnection, L.L.C.

Description: § 205(d) Rate Filing: Amendment to ISA Service Agreement No. 2011; Queue No. O18 to be effective 2/21/2026.

Filed Date: 12/22/25.

Accession Number: 20251222-5321.

Comment Date: 5 p.m. ET 1/12/26.

Docket Numbers: ER26-862-000.

Applicants: Prospect Power, LLC.

Description: Initial Rate Filing: Market-Based Rate Application to be effective 12/23/2025.

Filed Date: 12/22/25.

Accession Number: 20251222-5331.

Comment Date: 5 p.m. ET 1/12/26.

Docket Numbers: ER26-863-000.

Applicants: Energy Prepay XII, LLC.

Description: Initial Rate Filing: Baseline new to be effective 12/23/2025.

Filed Date: 12/22/25.

Accession Nomber: 20251222-5346.

Comment Date: 5 p.m. ET 1/12/26.

Docket Numbers: ER26-864-000.

Applicants: Energy Prepay XIV, LLC.

Description: Initial Rate Filing: Baseline new to be effective 12/23/2025.

Filed Date: 12/22/25.

Accession Number: 20251222-5349.

Comment Date: 5 p.m. ET 1/12/26.

Docket Numbers: ER26-865-000.

Applicants: Energy Prepay XV, LLC.

Description: Initial Rate Filing: Baseline new to be effective 12/23/2025.

Filed Date: 12/22/25.

Accession Number: 20251222-5350.

Comment Date: 5 p.m. ET 1/12/26.

Docket Numbers: ER26-866-000.

Applicants: Energy Prepay XVI, LLC.

Description: Initial Rate Filing: Baseline new to be effective 12/23/2025.

Filed Date: 12/22/25.

Accession Number: 20251222-5351.

Comment Date: 5 p.m. ET 1/12/26.

Docket Numbers: ER26-867-000.

Applicants: Energy Prepay XVII, LLC.

Description: Initial Rate Filing: Baseline new to be effective 12/23/2025.

Filed Date: 12/22/25.

Accession Number: 20251222-5352.

Comment Date: 5 p.m. ET 1/12/26.

Docket Numbers: ER26-868-000.

Applicants: Energy Prepay XVIII, LLC.

Description: Initial Rate Filing: Baseline new to be effective 12/23/2025.

Filed Date: 12/22/25.

Accession Number: 20251222-5353.

Comment Date: 5 pm ET 1/12/26.

Docket Numbers: ER26-869-000.

Applicants: Energy Prepay XIX, LLC.

Description: Initial Rate Filing: Baseline new to be effective 12/23/2025.

Filed Date: 12/22/25.

Accession Number: 20251222-5354.

Comment Date: 5 p.m. ET 1/12/26.

Docket Numbers: ER26-870-000.

Applicants: Energy Prepay XX, LLC.

Description: Initial Rate Filing: Baseline new to be effective 12/23/2025.

Filed Date: 12/23/25.

Accession Number: 20251223-5000.

Comment Date: 5 p.m. ET 1/13/26.

Docket Numbers: ER26-871-000.

Applicants: New England Power Company.

Description: § 205(d) Rate Filing: 2025-12-23 New England Power Filing of Revised Market-Based Rate Sales Tariff to be effective 2/22/2026.

Filed Date: 12/23/25.

Accession Number: 20251223-5011.

Comment Date: 5 p.m. ET 1/13/26.

Docket Numbers: ER26-872-000.

Applicants: Massachusetts Electric Company.

Description: § 205(d) Rate Filing: 2025-12-23 MECO Filing of Revised Market-Based Rate Sales Tariff to be effective 2/22/2026.

Filed Date: 12/23/25.

Accession Number: 20251223-5015.

Comment Date: 5 p.m. ET 1/13/26.

Docket Numbers: ER26-873-000.

Applicants: Niagara Mohawk Power Corporation.

Description: § 205(d) Rate Filing: 2025-12-23 Niagara Mohawk Filing of Revised Market-Based Rate Sales Tariff to be effective 2/22/2026.

Filed Date: 12/23/25.

Accession Number: 20251223-5023.

Comment Date: 5 p.m. ET 1/13/26.

Docket Numbers: ER26-874-000.

Applicants: PJM Interconnection, L.L.C.

Description: § 205(d) Rate Filing: Amendment to ISA Service Agreement No. 2785; Queue No. R32 to be effective 2/22/2026.

Filed Date: 12/23/25.

Accession Number: 20251223-5031.

Comment Date: 5 p.m. ET 1/13/26.

Docket Numbers: ER26-875-000.

Applicants: National Grid Generation LLC.

Description: § 205(d) Rate Filing: 2025-12-23 NGG Filing of Revised Market-Based Rate Sales Tariff to be effective 2/22/2026.

Filed Date: 12/23/25.

Accession Number: 20251223-5034.

Comment Date: 5 p.m. ET 1/13/26.

Docket Numbers: ER26-876-000.

Applicants: National Grid-Glenwood Energy Center, LLC.

Description: § 205(d) Rate Filing: 2025-12-23 Glenwood Filing of Revised Market-Based Rate Sales Tariff to be effective 2/22/2026.

Filed Date: 12/23/25.

Accession Number: 20251223-5048.

Comment Date: 5 p.m. ET 1/13/26.

Docket Numbers: ER26-877-000.

Applicants: National Grid-Port Jefferson Energy Center, LLC.

Description: § 205(d) Rate Filing: 2025-12-23 Port Jefferson Filing of Revised Market-Based Rate Sales Tariff to be effective 2/22/2026.

Filed Date: 12/23/25.

Accession Number: 20251223-5060.

Comment Date: 5 p.m. ET 1/13/26.

Docket Numbers: ER26-878-000.

Applicants: Midcontinent Independent System Operator, Inc., Michigan Electric Transmission Company, LLC.

Description: § 205(d) Rate Filing: Michigan Electric Transmission Company, LLC submits tariff filing per 35.13(a)(2)(iii: 2025-12-23_SA 4637 METC-EDP Renewables North America E&P (J1929) to be effective 12/16/2025.

Filed Date: 12/23/25.

Accession Number: 20251223-5081.

Comment Date: 5 p.m. ET 1/13/26.

Docket Numbers: ER26-879-000.

Applicants: WR Graceland Solar, LLC.

Description: Initial Rate Filing: WR Graceland Solar, LLC—Market Based Rate to be effective 1/1/2026.

Filed Date: 12/23/25.

Accession Number: 20251223-5145.

Comment Date: 5 p.m. ET 1/13/26.

Docket Numbers: ER26-880-000.

Applicants: AES WR Limited Partnership.

Description: Request for Limited Waiver, Shortened Comment Period and Expedited Commission Action of AES WR Limited Partnership.

Filed Date: 12/22/25.

Accession Number: 20251222-5362.

Comment Date: 5 p.m. ET 1/2/26.

Docket Numbers: ER26-882-000.

Applicants: Florida Power & Light Company.

Description: § 205(d) Rate Filing: FPL Amendment to LCEC RS No. 317 Formula Rate to be effective 1/1/2023.

Filed Date: 12/23/25.

Accession Number: 20251223-5222.

Comment Date: 5 p.m. ET 1/13/26.

Docket Numbers: ER26-883-000.

Applicants: Florida Power & Light Company.

Description: § 205(d) Rate Filing: FPL Amendment to FKEC RS No. 322 Formula Rate to be effective 1/1/2023.

Filed Date: 12/23/25.

Accession Number: 20251223-5227.

Comment Date: 5 p.m. ET 1/13/26.

Take notice that the Commission received the following qualifying facility filings:

Docket Numbers: QF26-359-000.

Applicants: NTL Fuel Cells I, LLC.

Description: Form 556 of NTL Fuel Cells I, LLC.

Filed Date: 12/22/25.

Accession Number: 20251222-5370.

Comment Date: 5 p.m. ET 1/12/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: December 23, 2025.
Carlos D. Clay,
Deputy Secretary.

[FR Doc. 2025-24090 Filed 12-30-25; 8:45 am]

BILLING CODE 6717-01-P